DEPARTMENT OF VETERANS AFFAIRS

[OMB Control No. 2900-0521]

Agency Information Collection Activity Under OMB Review: Certification of Loan Disbursement, Request for Verification of Employment and Request for Verification of Deposit

Correction

In notice document 2025-17980, appearing on pages 44906-44907 in the issue of Wednesday, September 17, 2025, make the following correction:

On page 44907, in the first column, in the DATES section, “September 17, 2025” should read “October 17, 2025”.

[FR Doc. C1-2025-17980 Filed 9-26-25; 8:45 am]

BILLING CODE 0099-10-P